FEDERAL DEPOSIT INSURANCE CORPORATION

Notice of Termination; 10067 Southern Community Bank, Fayetteville, GA

The Federal Deposit Insurance Corporation (FDIC), as Receiver for 10667 Southern Community Bank, Fayetteville, GA (Receiver) has been authorized to take all actions necessary to terminate the receivership estate of Southern Community Bank (Receivership Estate); The Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective September 01, 2015 the Receivership Estate has been terminated, the Receiver discharged, and the Receivership Estate has ceased to exist as a legal entity.

Dated: September 2, 2015.
Federal Deposit Insurance Corporation.
Robert E. Feldman,
Executive Secretary.

[FR Doc. 2015-22562 Filed 9-4-15; 8:45 am]

BILLING CODE 6714-01-P